DEPARTMENT OF AGRICULTURE

Animal and Plant Health Inspection Service

9 CFR Parts 71, 77, and 78

[Docket No. 99-090-2]

Livestock Identification; American Identification Numbering System

AGENCY: Animal and Plant Health Inspection Service, USDA.

ACTION: Notice of extension of comment period.

SUMMARY: We are extending the comment period for our advance notice of proposed rulemaking that solicited public comment on our intent to recognize the American Identification Numbering System as a means of providing unique identification for livestock. This action will allow interested persons additional time to prepare and submit comments.

DATES: We invite you to comment on Docket No. 99-090-1. We will consider all comments that we receive by May 16, 2000.

ADDRESSES: Please send your comment and three copies to: Docket No. 99-090-1, Regulatory Analysis and Development, PPD, APHIS, Suite 3C03, 4700 River Road, Unit 118, Riverdale, MD 20737-1238. Please state that your comment refers to Docket No. 99-090-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. John F. Wiemers, National Animal Health Programs Staff, VS, APHIS, 2100 South Lake Storey Road, Galesburg, IL 61401; (309) 344-1942.

SUPPLEMENTARY INFORMATION:

Background

On March 3, 2000, we published in the Federal Register (65 FR 11485-11486, Docket No. 99-090-1) an advance notice of proposed rulemaking to solicit public comment on our intent to recognize the American Identification Numbering System as a means of providing unique identification for livestock.

Comments on the advance notice of proposed rulemaking were required to be received on or before May 2, 2000. We are extending the comment period on Docket No. 99-090-1 for an additional 14 days. This action will allow interested persons additional time to prepare and submit comments.

Authority: 21 U.S.C. 111-113, 114, 114a, 114a-1, 115-117, 120-126, 134b, and 134f; 7 CFR 2.22, 2.80, and 371.2(d).

Done in Washington, DC, this 19th day of April 2000.
Bobby R. Acord,
Acting Administrator, Animal and Plant Health Inspection Service.

[FR Doc. 00-10387 Filed 4-25-00; 8:45 am]

BILLING CODE 3410-34-P